DEPARTMENT OF TRANSPORTATION

Research and Special Programs Administration

[Docket No. RSPA-2004-18975 (Notice No. 04-06)]

Electronic Submission of Hazardous Materials Incident Report, Form F 5800.1

AGENCY: Research and Special Programs Administration (RSPA), DOT.

ACTION: Notice of Electronic Hazardous Materials Incident Reporting.

SUMMARY: In conjunction with implementation of the revised Hazardous Materials Incident Report on January 1, 2005, RSPA is making publicly available a programming tool for companies or individuals to use to electronically file hazardous materials incident reports. This new electronic format may only be used for reporting incidents that occur on or after January 1, 2005.

FOR FURTHER INFORMATION CONTACT: Mr. Kenny Herzog, Research and Special Programs Administration, U.S. Department of Transportation, Nassif Building, 400 Seventh Street, SW., Washington, DC, 20590-0001; (202) 366-5031; Kenneth.Herzog@rspa.dot.gov.

SUPPLEMENTARY INFORMATION: In accordance with requirements in §§ 171.15 and 171.16 of the Hazardous Materials Regulations (HMR; 49 CFR parts 171-180), persons who are in physical possession of a hazardous material that is being transported in commerce must file a Hazardous Materials Incident Report (HMIR), DOT Form F 5800.1 in the event an incident listed in §§ 171.15 or 171.16 occurs. On December 3, 2003, RSPA published a final rule under Docket HM-229 that made revisions to the incident reporting requirements and the HMIR (68 FR 67746).

The HM-229 final rule provides persons subject to the incident reporting requirements with the option of submitting incident reports electronically. Those persons wishing to submit their incident data in an electronic format have two options. Option 1 is to fill out the form online. Option 2 is to submit a data file in an XML format. To facilitate electronic filing, we have developed a programming tool—an XML schema format—and instruction document. The XML schema format establishes a template for data layout to facilitate electronic data submissions by providing for efficient data transmission, validation, and interpretation. The XML schema format and documentation detailing the layout of the schema and field definitions are available on our Web site at: http://hazmat.dot.gov. For those companies or individuals who wish to design and utilize their own XML data format, we have developed a schema validating tool, which is also available on our Web site. Using this tool, you can assure that your XML format conforms to the Department's standard for data integrity.

For incidents that occur prior to January 1, 2005, you must continue to use DOT Form 5800.1 (Rev. 6/89). For incidents that occur on or after January 1, 2005, persons must use the new DOT Form 5800.1 (01-2004). Electronic submission of incident data is only authorized for incidents that occur on or after January 1, 2005.

Issued in Washington, DC, on November 9, 2004.
Robert A. McGuire,
Associate Administrator for Hazardous Materials Safety.

[FR Doc. 04-25444 Filed 11-16-04; 8:45 am]

BILLING CODE 4910-60-P